DEPARTMENT OF TRANSPORTATION

[Docket No. DOT-OST-2021-0038]

Request for Comments on a Previously Approved Information Collection: Information Associated With the Aviation Manufacturing Jobs Protection (AMJP) Program

AGENCY: Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on September 21, 2021. No comments were received.

DATES: Comments must be submitted on or before February 4, 2022.

ADDRESSES: Send comments regarding the burden estimate, including suggestions for reducing the burden, to the Office of Management and Budget, Attention: Desk Officer for the Office of the Secretary of Transportation, 725 17th Street NW, Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Information related to this ICR, including applicable supporting documentation may be obtained by contacting Alexus Jenkins-Reid in the Office of the Secretary of Transportation, 1200 New Jersey Avenue SE, Washington, DC 20590, via telephone at (202) 366-5112, or via email at AMJP@dot.gov.

SUPPLEMENTARY INFORMATION:

Title: Information Associated with the Aviation Manufacturing Jobs Protection (AMJP) Program.

Form Numbers: New collection, Forms AMJP-1A.2.2, AMJP-1A.2.3, AMJP-1A.2.4, AMJP-1A.6.4, AMJP-1A.6.5, AMJP-1A.6.6, AMJP-1A6.7 (available at https://www.transportation.gov/amjp/resources-recipients).

OMB Control Number: 2106-0048.

Type of Request: Renewal and update of Information Collection previously approved.

Abstract: The Department of Transportation (DOT) hereby asks the Office of Management and Budget (OMB) approval to renew and revise an information collection that was approved under an emergency clearance approval by OMB through November 30, 2021.

On March 11, 2021, the “American Rescue Plan Act of 2021” (ARPA), Public Law (P.L.) 117-2, was enacted. Sections 7201 and 7202 established the “Aviation Manufacturing Jobs Protection” (AMJP) program. The stated purpose of the program is “to provide public contributions to supplement compensation of an eligible employee group” (which is defined in the statute), by entering into agreements with qualifying business entities to pay up to half of the payroll costs for that group of employees for up to six months, in return for several commitments, including a commitment that the company will not involuntarily furlough or lay off employees within that group. Individual employees (including contract employees) are not eligible to apply for assistance under this program.

Application for assistance under the AMJP was voluntary. No business was required to apply. To be eligible, however, businesses were required to meet all the requirements set forth in the law. Therefore, DOT was required to collect certain information from applicants to determine eligibility. DOT must also verify the accuracy of specific payment requests from approved applicants, in accordance with other laws and regulations governing Federal financial assistance programs, including (but not limited to) the Antideficiency Act, the Federal Funding Accountability and Transparency Act (FFATA), the Payment Integrity Information Act of 2019, and applicable provisions in 2 CFR part 200, among others.

The ARPA required DOT to reduce funding on a pro rata basis if eligible requests exceeded available funds. Therefore, DOT originally planned to conduct a single-round, expedited application process to identify all eligible requests before beginning the award process. Accordingly, DOT developed a process and system to enable businesses to apply for financial assistance under the AMJP. DOT used an online, web-based system to collect the information outlined in the notice at 86 FR 19695. OMB provided emergency approval on May 26, 2021, with information collection control number 2106-0048.

DOT subsequently announced the beginning of the application process on June 14, 2021, via notice at 86 FR 31573. DOT posted the application instructions online at https://www.transportation.gov/AMJP/apply. The application process was open for four weeks, from June 14, 2021 through July 13, 2021. DOT subsequently reopened the application process for another four-week period ending September 1, 2021. On November 8, 2021, DOT made the decision to reopen the application process for one final period ending December 13, 2021.

DOT has publicly announced more than 470 offers of financial assistance under the AMJP, totaling more than $666 million, resulting from the first two application processes. As of the signature date of this notice, DOT has awarded 446 financial assistance agreements, totaling approximately $597 million. DOT is renewing and updating this information collection. DOT will continue to require eligible recipients to attest that they continue to meet all the original eligibility requirements as previously outlined, as well as the following information:

• A sworn certification as to the complete and accurate nature of all information provided, including all supporting documentation, subject to civil or criminal penalties. The specific certification language is in the forms referenced above and section 4.8 of the General Terms And Conditions Under The Aviation Manufacturing Jobs Protection Program.¹

¹ See https://www.transportation.gov/amjp/resources-recipients for text of a sample AMJP agreement, including the General Terms and Conditions.

• After DOT determines eligibility and enters into an agreement with the applicant (referred to hereafter as “the recipient”), DOT will also require the recipient to provide the actual aggregate total cost of compensation for the Eligible Employee Group during the period of the agreement with DOT, in order for DOT to review and approve actual disbursements pursuant to the agreement. Recipients will be required to provide supporting documentation in sufficient detail to substantiate the actual costs, specifically excluding any Personally Identifiable Information (PII) for any individual employees. Recipients will also be required to provide additional supporting information and certifications in support of disbursement requests. See Forms AMJP-1A-6.4, AMJP-1A-6.6, and AMJP-1A-6.7.

• DOT may also ask recipient businesses to submit voluntary reports regarding demographic data associated with the workforce that is and is not included in the Eligible Employee Group. This would be voluntary on the part of the employer and based solely on voluntary data self-reported by employees, disaggregated from any Personally Identifiable Information in order to avoid any potential privacy concerns. If a statistically valid sample can be developed, then it may be possible to extrapolate for reporting and program evaluation purposes. Such information may be used to support program evaluation.

• DOT may also ask recipient businesses to identify how they first learned about the AMJP program. Such information may be useful in implementation of future financial assistance programs.

DOT has updated the following estimated public burden figures based on the actual number of applications received as well as observations during the application review process. In order to help reduce the burden on recipients (and particularly on small businesses), DOT decided to make an initial disbursement shortly after award of each agreement. The initial disbursement is up to 50 percent of the award amount. This provides the recipient businesses with an immediate cash infusion, while also reducing the total number of disbursements and the cumulative paperwork required. DOT announced this decision in the application package published on June 15, 2021.

Estimated Number of Respondents: 600 eligible business entities in the aviation manufacturing, maintenance, repair, and overhaul services based in the United States.

Estimated Number of Responses: See “Annual Estimated Total Burden Hours,” below.

Frequency of Collection: One-time application (already completed), to be followed by disbursement requests and final closeout reports (including supporting payroll documentation and reporting requirements).

Estimated Total Annual Burden Hours: Total burden, 16,800 hours (28 hours per respondent including 4 hours for each of 2 disbursement requests; 14 hours for required forms; 2 hours for voluntary demographic data; and 4 hours for closeout documentation).²

² DOT published these figures in the 60-day notice on September 21, 2021. As of that date, DOT believed that the application process had been concluded, and therefore no longer included figures associated with the AMJP application process (which DOT did include in the original request for emergency approval published on April 14, 2021). DOT subsequently reopened the application process for a third and final round, with an application deadline of December 13, 2021. If another 150 applicants apply, then this would represent an additional burden of 2,400 hours at an estimated cost of $89,740.50.

Authority: The Paperwork Reduction Act of 1995; 44 U.S.C. Chapter 35, as amended; and 49 CFR 1.48.

Issued in Washington, DC, on December 12, 2021.
Brian Elliott Black,
Program Director, Aviation Manufacturing Jobs Protection (AMJP) Program.

[FR Doc. 2021-27329 Filed 1-4-22; 8:45 am]

BILLING CODE 4910-9X-P